FEDERAL COMMUNICATIONS COMMISSION

47 CFR Part 73

[DA 01-274; MM Docket No. 00-73; RM-9861]

Radio Broadcasting Services; Hornbrook, CA

AGENCY: Federal Communications Commission.

ACTION: Final rule.

SUMMARY: This document allots Channel 255A to Hornbrook, California, as that community's first local aural transmission service in response to a proposal filed on behalf of Logan and Company. See 65 FR 33799, May 25, 2000. This document also holds that two amended applications for Channel 254C1 at Keno, Oregon, cannot be considered in this proceeding because the applicants were not eligible to file an application for Channel 254C1 by the counterproposal deadline in this proceeding. Coordinates used for Channel 255A at Hornbrook, are those of a restricted site located 3.7 kilometers (2.3 miles) southwest of the community at 41-53-06 NL and 122-35-03 WL.

DATES: Effective March 26, 2001. A filing window for Channel 255A at Hornbrook, California, will not be opened at this time. Instead, the issue of opening this allotment for auction will be addressed by the Commission in a subsequent Order.

FOR FURTHER INFORMATION CONTACT: Nancy Joyner, Mass Media Bureau, (202) 418-2180.

SUPPLEMENTARY INFORMATION: This is a synopsis of the Commission's Report and Order, MM Docket No. 00-73, adopted January 24, 2001, and released February 9, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under California, is amended by adding Hornbrook, Channel 255A.

Federal Communications Commission.
John A. Karousos,
Chief, Allocations Branch, Policy and Rules Division, Mass Media Bureau.

[FR Doc. 01-4209 Filed 2-20-01; 8:45 am]

BILLING CODE 6712-01-P